DEPARTMENT OF THE INTERIOR

National Park Service

[NPS-WASO-NRNHL-16123; PPWOCRADI0, PCU00RP14.R50000]

National Register of Historic Places; Notification of Pending Nominations and Related Actions

Nominations for the following properties being considered for listing or related actions in the National Register were received by the National Park Service before June 28, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by August 6, 2014. Before including your address, phone number, email address, or other personal identifying information in your comment, you should be aware that your entire comment—including your personal identifying information—may be made publicly available at any time. While you can ask us in your comment to withhold your personal identifying information from public review, we cannot guarantee that we will be able to do so.

Dated: July 1, 2014.
J. Paul Loether,
Chief, National Register of Historic Places/National Historic Landmarks Program.

CONNECTICUT

New London County

Mystic Bank, 39 Main St., Old Mystic, 14000476

FLORIDA

Pinellas County

Gulfport Casino, 5500 Shore Blvd., Gulfport, 14000477

ILLINOIS

St. Clair County

United States Post Office and Courthouse, 750 Missouri Ave., East Saint Louis, 14000478

KANSAS

Cherokee County

Baxter Springs High School, (Public Schools of Kansas MPS) 1520 Cleveland Ave., Baxter Springs, 14000479

MARYLAND

Frederick County

Catoctin Mountain Park, 6602 Foxville Rd., Thurmont, 14000484

NEW MEXICO

San Miguel County

Santa Fe Trail—West San Jose Segment, Address Restricted, San Jose, 14000481

OHIO

Butler County

Central Avenue Historic District, Central Ave., Middletown, 14000480

OREGON

Multnomah County

Woodlark Building, 813-817 SW. Alder St., Portland, 14000482

WISCONSIN

Brown County

Beaten, John, Store, 620 George St., De Pere, 14000483

A request for removal has been received for the following resource:

OREGON

Yamhill County

Baxter House, 407 Church St., Dayton, 87000331

[FR Doc. 2014-17159 Filed 7-21-14; 8:45 am]

BILLING CODE 4312-51-P